DEPARTMENT OF ENERGY

Federal Energy Regulatory Commission

[Docket Nos. ER04-157-022, ER04-714-012, EL05-89-002]

Bangor Hydro-Electric Company; Florida Power & Light Company; New England Transmission Owners; Errata Notice Extending Comment Date

September 19, 2007.

On September 18, 2007, the Commission issued a notice in the above-captioned proceeding. Combined Notice Of Filings # 1, September 18, 2007. The comment date on the notice read “Monday, September 17, 2007.” This errata notice extends the comment due date to Wednesday, September 26, 2007.

Kimberly D. Bose,
Secretary.

[FR Doc. E7-18907 Filed 9-25-07; 8:45 am]

BILLING CODE 6717-01-P